DEPARTMENT OF COMMERCE

Foreign-Trade Zones Board

[B-84-2021]

Foreign-Trade Zone (FTZ) 80—San Antonio, Texas, Authorization of Production Activity; CGT U.S., Ltd. (Polyvinyl Chloride (PVC) Coated Upholstery Fabric Cover Stock), New Braunfels, Texas

On December 8, 2021, CGT U.S., Ltd. (CGT) submitted a notification of proposed production activity to the FTZ Board for its facility within Subzone 80E, in New Braunfels, Texas.

The notification was processed in accordance with the regulations of the FTZ Board (15 CFR part 400), including notice in the Federal Register inviting public comment (86 FR 73730, December 28, 2021). On April 7, 2022, the applicant was notified of the FTZ Board's decision that no further review of the proposed activity is warranted at this time. The FTZ Board authorized the production activity described in the notification, subject to the FTZ Act and the Board's regulations, including Section 400.14. The foreign-status material (100% polyester woven weft pile fabric—dyed) may only be admitted in privileged foreign status (19 CFR 146.41).

Dated: April 7, 2022.
Andrew McGilvray,
Executive Secretary.

[FR Doc. 2022-07772 Filed 4-11-22; 8:45 am]

BILLING CODE 3510-DS-P